DEPARTMENT OF ENERGY

Federal Energy Regulatory Commission

[Docket No. RP02-336-001]

Chandeleur Pipe Line Company; Notice of Compliance Filing

July 12, 2002.

Take notice that on July 2, 2002, Chandeleur Pipe Line Company (Chandeleur) tendered for filing as part of its FERC Gas Tariff, Second Revised Volume No. 1, Substitute Third Revised Sheet No. 34 to be effective July 1, 2002.

Chandeleur asserts that the purpose of this filing is to comply with OMTR Letter Order issued June 26, 2002, in RP02-336-000.

Chandeleur states that the purpose of this filing is to comply with OMTR directives as set forth in Letter Order issued on June 26, 2002 in Docket No. RP02-336-000 wherein Chandeleur was directed to file revised sheets reflecting textual corrections as indicated on previously-submitted red-lined sheets.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18089 Filed 7-17-02; 8:45 am]

BILLING CODE 6717-01-P